DEPARTMENT OF COMMERCE

Foreign-Trade Zones Board

[Docket 32-2001]

Foreign-Trade Zone 15—Kansas City, MO, Area Application for Expansion

An application has been submitted to the Foreign-Trade Zones Board (the Board) by the Greater Kansas City Foreign Trade Zone, Inc., grantee of Foreign-Trade Zone 15, requesting authority to expand its zone in the Kansas City, Missouri, area, adjacent to the Kansas City, Missouri, Customs port of entry. The application was submitted pursuant to the provisions of the Foreign-Trade Zones Act, as amended (19 U.S.C. 81a-81u), and the regulations of the Board (15 CFR part 400). It was formally filed on July 6, 2001.

FTZ 15 was approved on March 23, 1973 (Board Order 93, 38 FR 8622, 4/4/73) and expanded on October 25, 1974 (Board Order 102, 39 FR 39487, 11/7/74); February 28, 1996 (Board Order 804, 61 FR 9676, 3/11/96); May 31, 1996 (Board Order 824, 61 FR 29529, 6/11/96); December 8, 1997 (Board Order 934, 62 FR 65654, 12/15/97); October 19, 1998 (Board Order 1004, 63 FR 59761, 11/5/98); January 8, 1999 (Board Order 1016, 64 FR 3064, 1/20/99) and, June 17, 1999 (Board Order 1042, 64 FR 34188, 6/25/99). The zone project includes 8 general-purpose sites in the Kansas City, Missouri, port of entry area: Site 1 (250,000 sq. ft.)—Midland International Corp. warehouse, 1690 North Topping, Kansas City; Site 2 (2,815,000 sq. ft.)—Hunt Midwest surface/underground warehouse complex, 8300 N.E. Underground Drive, Kansas City; Site 3 (10,000 acres)—Kansas City International Airport complex, Kansas City; Site 4 (416 acres)—Surface/underground business park (Carefree Industrial Park), 1600 N.M-291 Highway, Sugar Creek; Site 5 (5.75 million sq. ft.)—CARMAR Underground Business Park and Surface Industrial Park (1,000 acres) located at No. 1 Civil War Road, Carthage; Site 6 (28,000 sq. ft., 11 acres)—Laser Light Technologies, Inc., Hermann Industrial Park, 5 Danuser Drive, Hermann; Site 7 (1,750 acres)—Richards-Gebaur Memorial Airport Industrial Park complex, 1540 Maxwell, Kansas City; and Site 8 (169 acres, 3 parcels)-Site 8a (60,000 sq. ft., 4 acres)—warehouse facility of Midwest Quality Glove, Inc., 835 Industrial Road, Chillicothe; Site 8b (11 acres)—Chillicothe-Brunswick Rail Yard, Washington Street, Chillicothe; and Site 8c (50,000 sq. ft., 154 acres)—Chillicothe Industrial Park, Corporate Road, Chillicothe.

The applicant is now requesting authority to further expand the general-purpose zone to include two additional sites (50 acres) in St. Joseph, Missouri: Proposed Site 9 (200,000 sq. ft., 25 acres)—public storage facility at 2307 Alabama, St. Joseph; and, Proposed Site 10 (169,000 sq. ft., 25 acres)—public storage facility at 2326 Lower Lake Road, St. Joseph. Some 900,000 sq. ft. of additional warehouse space is planned for the two sites. Both sites will be operated by Pony Express Warehousing, Inc. They are owned by two related companies, L & A Development, L.L.C. and Lower Lake Road, L.L.C. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is September 17, 2001. Rebuttal comments in response to material submitted during the foregoing period may be submitted during the subsequent 15-day period (to October 2, 2001).

A copy of the application and accompanying exhibits will be available for public inspection at each of the following locations:

U.S. Department of Commerce, International Trade Administration, Export Assistance Center, 2345 Grand Boulevard, Suite 650, Kansas City, MO 64108

Office of the Executive Secretary, Foreign-Trade Zones Board, Room 4008, U.S. Department of Commerce, 14th & Pennsylvania Avenue, NW., Washington, DC 20230

Dated: July 9, 2001.
Dennis Puccinelli,
Executive Secretary.

[FR Doc. 01-18120 Filed 7-18-01; 8:45 am]

BILLING CODE 3510-DS-P